DEPARTMENT OF HEALTH AND HUMAN SERVICES

Administration for Children and Families

[OMB No.: 0970-0476]

Proposed Information Collection Activity; Comment Request

Proposed Projects: Generic Clearance for Disaster Information Collection Form.

Title: Disaster Information Collection Form.

Description: This is a request by the Administration for Children and Families (ACF) for an extension without change to a generic clearance for the Disaster Information Collection Form. An approval for this extension without change to the generic clearance is being requested because each of the thirteen program offices within ACF has a slightly different need for information about program impact information collection during a disaster.

ACF oversees more than 60 programs that affect the normal day to day operations of families, children, individuals and communities in the United States. Many of these programs encourage grantees or state administrators to develop emergency preparedness plans, but do not have statutory authority to require these plans be in place. ACF facilitates the inclusion of emergency preparedness planning and training efforts for ACF programs.

Presidential Policy Directive-8 (PPD-8) provides federal guidance and planning procedures under established phases—protection, preparedness, response, recovery, and mitigation. The Disaster Information Collection Forms addressed in this clearance process provide assessment of ACF programs in disaster response, and recovery.

ACF/Office of Human Services Emergency Preparedness and Response (OHSEPR) has a requirement under PPD-8, the National Response Framework, and the National Disaster Recovery Framework to report disaster impacts to ACF-supported human services programs to the HHS Secretary's Operation Center (SOC) and interagency partners. ACF/OHSEPR works in partnership with the Assistant Secretary for Preparedness and Response (ASPR), and the Federal Emergency Management Agency (FEMA) to report assessments of disaster impacted ACF programs and the status of continuity of services and recovery.

Respondents: State Administrators, and/or ACF grantees.

Annual Burden Estimates

The estimate is based on a single disaster per year. The estimate is for one state administrator to go through all the applicable questions with the Regional and Central Office staff, if applicable.

Instrument | Number of respondents | Number of responses per respondent | Average burden hours per response | Total burden hours
Disaster Information Collection Form | 10 | 15 | 0.08 Hours (5 Minutes) | 12 Hours (720 Minutes).

Estimated Total Annual Burden Hours: 12 hours.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-01078 Filed 2-4-19; 8:45 am]

BILLING CODE 4184-01-P